DEPARTMENT OF HOUSING AND URBAN DEVELOPMENT

[Docket No. FR-4837-D-45]

Consolidated Redelegation of Authority for Office of Public and Indian Housing

AGENCY: Office of the Assistant Secretary for Public and Indian Housing, HUD.

ACTION: Notice of supersedure and redelegation of authority.

SUMMARY: This notice supersedes the redelegation of authority pertaining to the Office of Public and Indian Housing published October 7, 1994.

EFFECTIVE DATE: September 9, 2003.

FOR FURTHER INFORMATION CONTACT: Robert Dalzell, Office of Public and Indian Housing, Department of Housing and Urban Development, 451 Seventh Street, SW., Room 4228 Washington, DC 20410-5000, telephone (202) 708-0440. (This is not a toll-free number.) Persons with hearing or speech impairments may access this number through TTY by calling the toll-free Federal Information Relay Service at 1-800-877-8339.

SUPPLEMENTARY INFORMATION: This notice supersedes the redelegation of authority published in the Federal Register on October 7, 1994 (59 FR 51200), and provides guidance to staff concerning their specific functions and responsibilities under the programs for which all powers and authorities are redelegated through this notice.

The notice of redelegated authority supersedes the October 7, 1994 (59 FR 51200) notice that redelegated to the Office of Public Housing Hub Directors, all powers and authorities necessary to administer Public and Indian Housing (PIH) programs including, but not limited to the powers and authorities needed to perform the functions enumerated in this notice, except for those authorities which are specifically excepted from this redelegation of authority.

Subject to the restrictions of this notice, the Hub Office of Public Housing Directors may further redelegate their authority to Program Center Coordinators, Hub Deputy Directors and Division Directors of Public Housing in HUD field offices as determined appropriate to efficiently manage office operations.

Section A. Authority Superseded

The redelegation of authority contained within the revocation and redelegation of authority published on October 7, 1994 (59 FR 51200), is superseded by and replaced with this redelegation of authority.

Section B. Authority Redelegated for Management and Operation of PIH Programs

The Assistant Secretary for Public and Indian Housing redelegates to the Public Housing Hub Directors, all powers and authorities necessary to administer PIH programs, including but not limited to those needed to perform the functions enumerated, except for the authority specifically excepted in this notice. In accordance with a written delegation of authority, Hub Office of Public Housing Directors may further redelegate their authority to Program Center Coordinators, Hub Deputy Directors and to all other ranking program officials on site or out-stationed. This general and specific program authority may be further redelegated, as appropriate, by Hub Office Directors, Program Center Coordinators, Hub Deputy Directors and all other ranking program officials on site or out-stationed, in accordance with a written redelegation of authority.

Section C. Authority for General Management Excepted

The authority redelegated under Section B does not include:

1. The authority to issue or waive regulations;

2. The authority to sue and be sued;

3. The authority to effect remedies for noncompliance requiring notice and opportunity for administrative hearing;

4. Initial allocation of funds and reallocation of funding among field offices;

5. Preparing the departmental budget and legislative proposals for consideration by Congress;

6. Waiving provisions of the Annual Contributions Contract (ACC), except as expressly provided by regulation, notice or other directive;

7. Waiving provisions and instructions of PIH directives relating to the obligation and payment of operating subsidies;

8. Issuance of program regulations, Notices of Funding Availability (NOFAs), handbooks, notices and other HUD issuances relating to PIH program administration;

9. Determining substantial breach or default of the ACC;

10. Declaring breach or default in response to any violation of statute regulations or the ACC, and in taking possession or title of properties of the PHA;

11. Soliciting competitive proposals from other PHAs and private management companies for managing all or part of the public housing administered by the PHA.

Section D. Authority Redelegated for Program-Specific Functions

In addition to the general redelegations listed in Section B, and subject to the excepted authority in Section C., the Assistant Secretary for Public and Indian Housing redelegates authority for administration of programs under the following statutory authorities:

1. Public Housing Development under the U.S. Housing Act of 1937 (42 U.S.C. 1437 et seq.), and implementing regulations;

2. Public Housing Operating Subsidy under Section 9, U.S. Housing Act of 1937, (42 U.S.C.1437g) and related implementing regulations;

3. Public Housing Modernization; Capital Program and related implementing regulations;

4. Section 8 Rental Voucher Program under Section 8(o), U.S. Housing Act of 1937 (42 U.S.C. 1437f(o);

5. Section 8 Rental Certificate Program under Section 8, U.S. Housing Act of 1937 (42 U.S.C. 1437f) and related implementing regulations;

6. Section 8 Moderate Rehabilitation Program under Section 8, U.S. Housing Act of 1937 (42 U.S.C. 1437f), except for Section 8 Moderate Rehabilitation Single Room Occupancy (SRO) Program, and related implementing regulations;

7. All sub-components of these programs such as, but not limited to Family Self-Sufficiency, Family Unification, HOPE for Elderly Independence and Service Coordinators, HUD-Veterans Administration Supportive Housing, and Moving to Opportunity;

8. Public Housing Energy Performance Contracting and Energy Efficiency Initiatives and related implementing regulations; and

9. Public Housing and Moderate Rehabilitation Admissions and Occupancy and related implementing regulations.

Section E. Specific Program Authority Excepted

The authority redelegated under Section D. does not include:

1. The authority to score PHAs under the Public Housing Assessment System (PHAS) and Section Eight Management Assessment Program (SEMAP) and their respective implementing regulations, approving Demolition and Disposition of Public Housing (except the authority granted to the Director of the Special Applications Center as noted in Section F).

2. The authority to approve special rent adjustments;

3. The authority to conduct tax credit (subsidy layering) reviews;

4. The authority to approve PHA requests for exception rents;

5. The authority to approve grant extension requests for the following resident empowerment programs except for the Resident Opportunities and Self-Sufficiency (ROSS) program, or except as may be otherwise noted:

5a. Public and Indian Resident Empowerment Programs, including: Tenant Opportunity Program; Public and Indian Housing Drug Elimination Program (including PHDEP New Approach, Technical Assistance and Youth Sports); Service Coordinators in Public Housing; Public and Indian Family Investment Centers; Public and Indian Housing Youth Family Investment Centers; Public Housing Youth Apprenticeship Program; Public and Indian Housing Economic Development and Supportive Services Program; and

5b. Homeownership and Opportunity for People Everywhere (HOPE I); Section 5(h) Homeownership Program (Section 5(h) of the U.S. Housing Act of 1937 (42 U.S.C. 1437c(h); Turnkey III Homeownership Program, including: Turnkey III Debt Forgiveness, and Turnkey III Return to Rental; and HOPE VI. All authority for the HOPE VI program remains under the purview of Headquarters except for those activities and functions specifically delegated by formal memorandum to individual field offices.

Section F. Authority Redelegated to the Director of the Special Applications Center

The Assistant Secretary for PIH redelegates authority to the Director of the Special Applications Center except for those authorities specifically excepted in Sections C. and E., as follows:

The Director of SAC may exercise the authority to disapprove an application for demolition or disposition or an agreement for the taking of public housing property in eminent domain proceedings on the ground that the application or agreement is prohibited by or inconsistent with applicable Federal law only with the concurrence of the Assistant Secretary for Public and Indian Housing or the Assistant Secretary's designee.

Authority: Section 7(d) of the Department of Housing and Urban Development Act, 42 U.S.C. 3535(d).

Dated: September 9, 2003.
Michael Liu,
Assistant Secretary for Public and Indian Housing.

[FR Doc. 03-23882 Filed 9-17-03; 8:45 am]

BILLING CODE 4210-33-P